DEPARTMENT OF THE INTERIOR

Geological Survey

[GX22EN05ES90000; OMB Control Number 1028-NEW]

Agency Information Collection Activities; Evaluation of the Arctic Rivers Project

AGENCY: U.S. Geological Survey, Interior.

ACTION: Notice of information collection; request for comment.

SUMMARY: In accordance with the Paperwork Reduction Act of 1995 (PRA), the U.S. Geological Survey (USGS) is proposing a new information collection.

DATES: Interested persons are invited to submit comments on or before August 5, 2022.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Ryan Toohey by email at rtoohey@usgs.gov or by telephone at 907-865-7802. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the PRA, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: We will collect information from stakeholders of the Arctic Rivers Project, which include representatives of Indigenous communities in Alaska, representatives of Indigenous organizations, and others regarding the effectiveness of participatory methods and achievement of overall project goals. Evaluation information will be collected via semi-structured interviews, surveys, and polls. Questions will focus on the relevancy of the project to participants, methods used to engage with participants, feedback about project components, input for the direction of the project, preferred communication methods, current and future use of project products. This information will allow for a greater understanding of the effectiveness of community engagement, the co-production process, and participation in the direction of the project. This information will help guide the project through its various phases, and it will help enhance communication and product development.

Title of Collection: Evaluation of the Arctic Rivers Project.

OMB Control Number: 1028-NEW.

Form Number: None.

Type of Review: NEW.

Respondents/Affected Public: Individuals/Tribal governments.

Total Estimated Number of Annual Respondents: 150.

Total Estimated Number of Annual Responses: 150.

Estimated Completion Time per Response: 60 minutes.

Total Estimated Number of Annual Burden Hours: 150.

Respondent's Obligation: Voluntary.

Frequency of Collection: Once per year for two years.

Total Estimated Annual Nonhour Burden Cost: None.

An agency may not conduct or sponsor, and a person is not required to respond to, a collection of information unless it displays a currently valid OMB control number.

The authority for this action is the Paperwork Reduction Act of 1995 (44 U.S.C. 3501 et seq).

Stephen Gray,
Alaska Climate Adaptation Science Center Director, U.S. Geological Survey.

[FR Doc. 2022-12133 Filed 6-3-22; 8:45 am]

BILLING CODE 4338-11-P